ENVIRONMENTAL PROTECTION AGENCY

[ER-FRL-9032-7]

Environmental Impact Statements; Notice of Availability

Responsible Agency: Office of Federal Activities, General Information (202) 564-7146 or http://www.epa.gov/nepa.

Weekly receipt of Environmental Impact Statements (EISs)

Filed 04/10/2017 Through 04/14/2017

Pursuant to 40 CFR 1506.9.

Notice:

Section 309(a) of the Clean Air Act requires that EPA make public its comments on EISs issued by other Federal agencies. EPA's comment letters on EISs are available at: http://www.epa.gov/compliance/nepa/eisdata.html.

EIS No. 20170057, Draft, DOT, HI, Saddle Road Extension, South Kohala, Comment Period Ends: 06/05/2017, Contact: J. Michael Will 720-963-3647

EIS No. 20170058, Final, USFS, MT, Center Horse Landscape Restoration Project, Review Period Ends: 05/22/2017, Contact: Tami Paulsen 406-329-3731

EIS No. 20170059, Final, USACE, NY, Mamaroneck and Sheldrake Rivers Flood Risk Management Project, Review Period Ends: 05/22/2017, Contact: Matthew Voisine 917-790-8718

EIS No. 20170060, Draft, USACE, CA, Berths 226-236 [Everport] Container Terminal Improvements Project, Comment Period Ends: 06/05/2017, Contact: Theresa Stevens 805-585-2146

EIS No. 20170061, Draft, APHIS, NAT, Determination of Non-Regulated Status for Freeze Tolerant Eucalyptus Lines FTE 427 and FTE 435, Comment Period Ends: 06/05/2017, Contact: Cindy Eck 301-851-3892

EIS No. 20170062, Draft, USFS, CA, Power Fire Reforestation, Comment Period Ends: 06/05/2017, Contact: Marc Young 209-295-5955

EIS No. 20170063, Final, USACE, AZ, Lone Star Ore Body Development Project, Review Period Ends: 05/22/2017, Contact: Michael Langley 602-230-6953

Dated: April 18, 2017.
Dawn Roberts,
Management Analyst, NEPA Compliance Division, Office of Federal Activities.

[FR Doc. 2017-08105 Filed 4-20-17; 8:45 am]

BILLING CODE 6560-50-P